DEPARTMENT OF DEFENSE

Office of the Secretary

Reserve Forces Policy Board (RFPB); Notice of Advisory Committee Meeting

AGENCY: Department of Defense, Office of the Secretary of Defense Reserve Forces Policy Board.

ACTION: Notice of Advisory Committee meeting.

SUMMARY: Pursuant to the Federal Advisory Committee Act of 1972 (5 U.S.C., Appendix, as amended), the Sunshine in the Government Act of 1976 (5 U.S.C. 552b, as amended), and 41 CFR 102-3.150, the Department of Defense announces the following Federal advisory committee meeting of the Reserve Forces Policy Board.

DATES: Wednesday, June 13, 2012, from 8:00 a.m.-3:40 p.m.

ADDRESSES: Meeting address is the Pentagon, Room 3E863, Arlington, VA. Mailing address is Reserve Forces Policy Board, 5113 Leesburg Pike, Suite 601, Falls Church, VA 22041.

FOR FURTHER INFORMATION CONTACT: CDR Steven Knight, Designated Federal Officer, (703) 681-0608 (Voice), (703) 681-0002 (Facsimile), RFPB@osd.mil. Mailing address is Reserve Forces Policy Board, 5113 Leesburg Pike, Suite 601, Falls Church, VA 22041. Web site: http://ra.defense.gov/rfpb/.

SUPPLEMENTARY INFORMATION: Purpose of the Meeting: The Reserve Forces Policy Board will hold a meeting from 8:00 a.m. until 3:40 p.m. The portion of the meeting from 9:00 a.m. until 11:30 a.m. will be closed and is not open to the public.

Agenda: National Security, Budget and Force Structure Issues, and Subcommittee Briefs.

Meeting Accessibility: In accordance with section 10(d) of the Federal Advisory Committee Act, Public Law 92-463, as amended (5 U.S.C. App. 2) and 41 CFR 102-3.155, the Department of Defense has determined that the portion of this meeting from 9:00 a.m. until 11:30 a.m. will be closed to the public. Specifically, the Under Secretary of Defense (Personnel and Readiness), with the coordination of the DoD Office of General Counsel, has determined in writing that this portion of the meeting will be closed to the public because it will discuss matters listed in 5 U.S.C. 552b(c)(1). Pursuant to 5 U.S.C. 552b, as amended, and 41 CFR 102-3.140 through 102-3.165, and the availability of space, the open portion of the meeting is open to the public. To request a seat, interested persons must phone the Designated Federal Officer not later than June 4, 2012 at the number in FOR FURTHER INFORMATION CONTACT.

Written Statements: Pursuant to 41 CFR 102-3.105(j) and 102-3.140, interested persons may submit written statements to the Reserve Forces Policy Board at any time. Written statements should be submitted to the Reserve Forces Policy Board's Designated Federal Officer at the address or facsimile number in FOR FURTHER INFORMATION CONTACT. If statements pertain to a specific topic being discussed at a planned meeting, then these statements must be submitted no later than five (5) business days prior to the meeting in question. The Designated Federal Officer will review all submitted written statements and provide copies to all the committee members.

Dated: May 23, 2012.
Aaron Siegel,
Alternate OSD Federal Register Liaison Officer, Department of Defense.

[FR Doc. 2012-12894 Filed 5-25-12; 8:45 am]

BILLING CODE 5001-06-P